COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete product(s) and service(s) to the Procurement List that were furnished by nonprofit agencies employing persons who are blind or have other severe disabilities.

DATES: Comments must be received on or before: June 12, 2022.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following product(s) and service(s) are proposed for deletion from the Procurement List:

Product(s)

NSN(s)—Product Name(s): MR 13109—Cookie Tool, Scoop N' Cut

Designated Source of Supply: Winston-Salem Industries for the Blind, Inc, Winston-Salem, NC

Contracting Activity: Military Resale-Defense Commissary Agency

NSN(s)—Product Name(s):

7510-00-224-7676—Felt Stamp Pad, Size #1, 2¾″ x 4¼″, Un-Inked

7510-00-526-1741—Foam Stamp Pad, Size #2, 3¼″ x 6¼″, Un-Inked

7510-01-431-6518—Felt Stamp Pad, Size #1, 2¾″ x 4¼″, Red

7510-01-431-6519—Foam Stamp Pad, Size #2, 3¼″ x 6¼″, Red

7510-01-431-6521—Felt Stamp Pad, Size #1, 2¾″ x 4¼″, Black

7510-01-431-6522—Foam Stamp Pad, Size #2, 3¼″ x 6¼″, Black

7510-00-526-1740—Foam Stamp Pad, Size #3, 4½″ x 7½″, Uninked

7510-00-231-6531—Felt Stamp Pad, Size #2, 3¼″ x 6¼″, Un-Inked

7510-00-526-1742—Foam Stamp Pad, Size #1, 2¾″ x 4½″, Un-Inked

7510-01-431-6517—Foam Stamp Pad, Size #1, 2¾″ x 4½″, Red

7510-01-431-6523—Felt Stamp Pad, Size #2, 3¼″ x 6¼″, Black

7510-01-431-6524—Foam Stamp Pad, Size #3, 4½″ x 7½″, Black

7510-01-431-6525—Foam Stamp Pad, Size #1, 2¾″ x 4½″, Black

7510-01-431-6526—Foam Stamp Pad, Size #3, 4½″ x 7½″, Red

7510-01-431-8625—Felt Stamp Pad, Size #2 3¼″ x 6¼″, Red

7520-00-117-5627—Fingerprint Pad, Size #1, 2¾″ x 4½″, Black

Designated Source of Supply: NYSARC, Inc., Cattaraugus Niagara Counties Chapter, Olean, NY

Contracting Activity: GSA/FAS ADMIN SVCS ACQUISITION BR(2, NEW YORK, NY

NSN(s)—Product Name(s):7520-00-281-5896— Stapler, Long Reach, 12″ Throat, Black

Designated Source of Supply: Access: Supports for Living Inc., Middletown, NY

Contracting Activity: GSA/FAS ADMIN SVCS ACQUISITION BR(2, NEW YORK, NY

NSN(s)—Product Name(s):

7510-01-664-8785—DAYMAX System, 2021 Calendar Pad, Type I

7510-01-664-8814—DAYMAX System, 2021, Calendar Pad, Type II

Designated Source of Supply: Anthony Wayne Rehabilitation Ctr for Handicapped and Blind, Inc., Fort Wayne, IN

Contracting Activity: GSA/FAS ADMIN SVCS ACQUISITION BR(2, NEW YORK, NY

Service(s)

Service Type: Janitorial/Custodial

Mandatory for: U.S. Fish and Wildlife Service, Great Swamp National Wildlife Refuge, 241 Pleasant Plains Road, Basking Ridge, NJ

Designated Source of Supply: Employment Horizons, Inc., Cedar Knolls, NJ

Contracting Activity: U.S. Fish and Wildlife Service, Contracting and General Services Div

Michael R. Jurkowski,
Acting Director, Business Operations.

[FR Doc. 2022-10317 Filed 5-12-22; 8:45 am]

BILLING CODE 6353-01-P